DEPARTMENT OF DEFENSE

Office of the Secretary

TRICARE; Notice of TRICARE Plan Program Changes for Calendar Year (CY) 2026

AGENCY: Office of the Secretary of Defense, Department of Defense (DoD).

ACTION: TRICARE plan program changes for CY 2026.

SUMMARY: This notice provides information regarding TRICARE plan program changes for CY 2026.

DATES: TRICARE Health Plan information in this notice is valid for services during CY 2026 (January 1-December 31, 2026).

ADDRESSES: Defense Health Agency, TRICARE Health Plan Division, 7700 Arlington Boulevard, Suite 5101, Falls Church, Virginia 22042-5101.

FOR FURTHER INFORMATION CONTACT: Ms. Debra Fisher, 703-275-6224, dha.ncr.healthcare-ops.mbx.thp-policy-and-programs-branch@health.mil.

SUPPLEMENTARY INFORMATION: A final rule published in the Federal Register (FR) on February 15, 2019 (84 FR 4326-4333) established the requirement for the Director, Defense Health Agency (DHA), to provide notice of TRICARE program changes to Military Health System (MHS) beneficiaries each CY in connection with the annual open season enrollment period. The following changes or improvements to the TRICARE program benefits apply for CY 2026.

Open Season Announcement

Open Season is an annual period when beneficiaries may enroll in a health plan or make changes to their healthcare, dental, and/or vision coverage for the next CY.

During the TRICARE Open Season running from November 10 through December 9, 2025, qualified MHS beneficiaries may enroll in or change their TRICARE Prime or TRICARE Select plan.

During the Federal Employee Dental and Vision Insurance Program (FEDVIP) Open Season, running from November 10 through December 8, 2025, qualified MHS beneficiaries, including TRICARE for Life beneficiaries, may enroll in or make changes to their dental and/or vision plans. FEDVIP is operated by the U.S. Office of Personnel Management.

Any changes MHS beneficiaries make during Open Season will take effect on January 1, 2026. If a beneficiary remains eligible and does not make any changes during Open Season, then their coverage will remain the same for 2026. TRICARE enrollees can ensure they receive important health plan information by promptly listing any change in mailing address, email address, and other information in the Defense Enrollment Eligibility Reporting System (DEERS) and verifying their preference for receipt of information digitally or by paper mailings with their respective regional contractors. TRICARE enrollees can avoid any health care coverage gaps by ensuring changes in their payment information is also updated with their regional contractors. See the Qualifying Life Events (https://health.mil/Military-Health-Topics/MHS-Toolkits/Toolkits/QLEhttps://health.mil/Military-Health-Topics/MHS-Toolkits/Toolkits/QLE) guide for when to update information in DEERS throughout the year.

Annual Announcements

The following TRICARE program features are subject to a year-to-year determination and are announced each year prior to the annual TRICARE Open Season.

Urgent Care Visits: The number of urgent care visits remains unlimited without referrals for TRICARE Prime enrollees for Plan CY 2026. Beneficiaries may receive urgent care from TRICARE-authorized urgent care centers (UCCs) and convenience clinics (CCs), either network or non-network, without a referral. They may also receive urgent care from any TRICARE network provider (i.e., family medicine; internal medicine-general practice; pediatricians). In situations when a TRICARE Prime enrollee seeks care from a non-network TRICARE authorized provider (outside of a TRICARE-authorized UCC or CC), the usual TRICARE Prime Point of Service (POS) deductible and cost-shares will apply. Private Sector care for active duty Service members is subject to different rules. Covered beneficiaries in the U.S. who want assistance with decisions whether to seek urgent care, except those enrolled in the Uniformed Services Family Health Plan (USFHP) or in a plan under the Competitive Plans Demonstration (CPD), may call the MHS Nurse Advice Line (NAL) at 1-800-874-2273 for health care guidance from a specially trained registered nurse. The NAL is available 24/7 to eligible TRICARE beneficiaries. USFHP and CPD enrollees should contact their contractor's designated nurse advice line. Beneficiaries residing overseas can call the NAL for health care advice when traveling in the U.S. but must coordinate care with their Overseas Regional Call Center. For additional information, call the servicing TRICARE contractor or visit https://www.tricare.mil/ContactUs and click on “MHS Nurse Advice Line.”

Prime Service Area Changes: Prime Service Areas (PSAs) are geographic areas around military medical treatment facilities and Base Realignment and Closure sites where TRICARE Prime is available. PSAs support the medical readiness of active duty members of the Uniformed Services by adding to the capability and capacity of military hospitals and clinics. There are no changes to the existing PSAs for CY 2026.

What's New

The following changes or improvements to TRICARE program benefits apply to CY 2026 (although some changes were implemented in 2025):

Changes to Automatic Prescription Refill Procedures for Mail Order Pharmacy: TRICARE beneficiaries using the mail order pharmacy must confirm they want their prescriptions refilled before the drugs are dispensed to prevent beneficiaries from receiving automatic refills for medications they no longer require and accruing unnecessary cost-shares. Beneficiaries will receive a notification in an email or text when a prescription is due for a refill, and they must log in to their account to confirm the request. When a beneficiary declines a refill or does not respond, the prescription will be removed from the automatic refill program, but the beneficiary will continue receiving reminder notifications their prescriptions are ready to refill until such prescription expires.

Elimination of Cost-Sharing for all TRICARE-Covered Contraceptives under the TRICARE Pharmacy Program: DoD eliminated cost-sharing for all TRICARE-covered contraceptives under the TRICARE Pharmacy Benefit program pursuant to authority granted to the Department under Section 707 of the Servicemember Quality of Life and National Defense Authorization Act (NDAA) for Fiscal Year (FY) 2025, making it easier for beneficiaries to access necessary contraceptive care.

Coverage of Weight Loss Drugs for Treating Obesity: TRICARE is authorized to cover weight loss drugs for treating obesity, if obesity is the sole or major condition treated, only for TRICARE Prime and Select beneficiaries when such weight loss drugs are prescribed by a TRICARE network provider and are medically necessary and appropriate, and integrated into a comprehensive medical treatment plan. The TRICARE Pharmacy Benefit program significantly revised the prior authorization forms for these drugs (e.g., GLP-1s) to continue to afford legally permissible coverage to our eligible beneficiaries while curtailing inappropriate use of these drugs and potential fraud, waste, and abuse.

Exclusion of Hormone Therapy for Treating Gender Dysphoria in Minors: Pursuant to NDAA for FY 2025, Section 708, and Executive Order 14187, for beneficiaries who are 18 years of age or younger, TRICARE no longer covers puberty blockers to delay the onset or progression of normally timed puberty and the use of sex-hormones to align an individual's physical appearance with an identity differing from his or her sex.

TRICARE Reserve Select, TRICARE Young Adult Survivor Coverage Eligibility: Pursuant to NDAA for FY 2024, Section 702, for Selected Reserve (SelRes) members enrolled in TRICARE Reserve Select (TRS) on or after October 1, 2025, eligible surviving family members may purchase new or continue existing TRS coverage for up to three years from the date of the SelRes member's death if the SelRes member's death occurred on or after October 1, 2025. For SelRes members enrolled in TRS on or after October 1, 2025, surviving young adult dependents may qualify to purchase TYA coverage, but with survivor (retiree) cost-shares, up to three years after the Service member's death or until the young adult dependent reaches the age of 26, whichever occurs first, if the SelRes member's death occurred on or after October 1, 2025.

TRICARE Prime Enrollment Fee Waiver Limitations: The TRICARE Prime enrollment fee waiver policy is updated clarifying waiver eligibility limits. The TRICARE Prime enrollment fee waiver is available only to Group A Medicare-eligible retirees and their family members enrolled in Medicare Part B. Group A consists of beneficiaries whose sponsor originally entered a uniformed service before January 1, 2018. All Group B Medicare-eligible beneficiaries and their family members are required to pay the TRICARE Prime enrollment fee.

Drive Time Standard Waiver No Longer Required for TRICARE Prime: Beneficiaries enrolled in TRICARE Prime who move within 100 miles of a military medical treatment facility (MTF) but at least 30 minutes away by car no longer need to request a waiver to stay enrolled in TRICARE Prime, the managed-care health plan option. However, beneficiaries moving farther than 100 miles of their MTF will need to make affirmative enrollment decisions or risk losing access to their TRICARE benefit.

Benefit Improvements

Female Uterine Fibroids Procedures: Laparoscopic or transcervical radiofrequency ablation for symptomatic uterine fibroids may be covered with TRICARE beneficiary cost-sharing when the procedure is performed using a Food and Drug Administration (FDA)-approved device according to manufacturer guidelines.

Lung Malignancy Treatment: Cryoablation, also called cryotherapy or cryosurgery, may be covered for treating lung malignancies in patients with lung cancer and in patients whose primary cancers have metastasized to the lungs. Cryoablation for lung malignancies may be covered as a curative or palliative treatment.

Transcutaneous Electrical Nerve Stimulation: Transcutaneous electrical nerve stimulation (TENS) devices are covered for acute post-operative pain for 30 days following surgery, or up to 90 days with preauthorization. TRICARE also covers TENS replacement supplies based on Medicare's frequency limits.

Coronary Calcium Scoring: Coronary artery calcium scoring when medically necessary for treating a patient who is asymptomatic for atherosclerotic cardiovascular disease is covered when provided in accordance with American College of Cardiology and American Heart Association guidelines.

Basivertebral Nerve Ablation: Basivertebral Nerve Ablation, a procedure to relieve chronic vertebrogenic lower back pain for patients with degenerative disc disease or other spinal conditions, is covered.

Risk-Reducing Surgeries: Expanded coverage of prophylactic mastectomies, prophylactic oophorectomies, and prophylactic hysterectomies for patients meeting criteria specified in American College of Obstetricians and Gynecologists or National Comprehensive Cancer Network guidelines, including personal and family cancer history, pathogenic or likely pathogenic genetic variants such as BRCA1/2 and PALB2, hereditary cancer syndromes such as Lynch Syndrome and Hereditary Breast and Ovarian Cancer Syndrome, and chest radiation.

Expediting Cochlear Implantation for Certain Children: TRICARE is eliminating the requirement children undergo a three-to-six-month hearing aid trial prior to receiving cochlear implants for children with post-meningitis hearing loss, evidence of cochlear ossification, and those with bilateral severe-to-profound sensorineural hearing loss.

Human Papillomavirus Testing: Primary human papillomavirus (HPV) testing without co-testing (e.g., simultaneous HPV testing with a pap test) is covered for beneficiaries ages 30-65 every five years. Additionally, for beneficiaries ages 30-65, co-testing every five years and pap tests every three years are covered. For beneficiaries ages 21-29, pap tests are covered every three years. FDA-approved self-collection tests are also covered.

Clinical Trials Coverage Expansion: Effective August 27, 2025, TRICARE covers routine care provided as part of clinical trials sponsored or approved by the National Institutes of Health studying conditions that are severely debilitating, life-threatening, or a rare disease, and for clinical trials studying infectious diseases for which a Public Health Emergency or National Emergency was declared.

New Provisional Coverage

Monoclonal Antibodies for Treating Alzheimer's Disease: TRICARE extended provisional coverage for monoclonal antibody drugs (e.g., lecanemab and donanemab) for treating the mild cognitive impairment or mild dementia stage of Alzheimer's disease beginning on October 23, 2024, for a five-year period, when used in accordance with FDA-approved labeling and when care is preauthorized. These drugs target the protein plaques presenting in the brain of Alzheimer's patients. In addition to otherwise covered confirmatory testing (e.g., cerebral spinal fluid testing), confirmation of target protein biology may be obtained through positron emission tomography (i.e., PET) scans under this provisional coverage.

Demonstration Changes and Extensions

Competitive Plans Demonstration: TRICARE-eligible active duty family members, retirees, and retiree family members who reside within certain ZIP Codes in the metro Atlanta, Georgia, and metro Tampa, Florida, areas can opt to voluntarily enroll in any year of a Competitive Plans Demonstration (CPD) that begins January 1, 2026 and ends December 31, 2028, regardless of whether they are currently enrolled in TRICARE Prime or TRICARE Select. Qualifying beneficiaries who wish to participate in the CPD can select the TRICARE Prime option with CareSource Military & Veterans (CSMV) serving as the contractor assigning the beneficiaries' primary care managers, and MicroHealth providing enrollment support and associated customer service operational support. CSMV will apply standard TRICARE Prime enrollment fees, copays, cost shares, deductibles, and catastrophic caps—except that the applicable annual TRICARE enrollment fee will be waived for TRICARE beneficiaries for the first year in which they enroll as CPD participants. Beneficiaries participating in the CPD will fill outpatient pharmacy prescriptions through the TRICARE Pharmacy Program managed by Express Scripts or at MTF pharmacies.

CSMV will provide enrollees access to its network primary care and specialty care providers (both inpatient and outpatient) in the Atlanta, Georgia, and Tampa, Florida, markets as well as virtual visits. Standard preauthorization requirements will apply; however, the TRICARE Prime referral requirements will not apply. The TRICARE POS option, with its associated cost-sharing requirements, will be available to CPD-enrolled beneficiaries. Details are available in an April 28, 2025, Federal Register notice at https://www.federalregister.gov/documents/2025/04/28/2025-07258/tricare-tricare-competitive-plans-demonstration-cpd.

Appendix A

Certain TRICARE enrollee out-of-pocket costs (enrollment fees, premiums, catastrophic caps, deductibles, and copayments) are adjusted annually by Federal law and regulations based on the annual Cost of Living Adjustment (COLA) applied to Uniformed Service member retired pay. A difference in copayments remains between those who entered a Uniformed Service before January 1, 2018, (Group A), and those who entered on or after that date (Group B).

The retiree COLA is typically announced after the Federal fiscal year begins in October. Beneficiary out-of-pocket expenses impacted by the 2025 COLA will be posted to the tricare.mil/changes web page before the start of TRICARE Open Season, November 10, 2025.

Premium Based Plans

The CY 2026 monthly premiums for TRICARE Reserve Select, TRICARE Retired Reserve, and TRICARE Young Adult and the quarterly premiums for Continued Health Care Benefit Program will be posted to the tricare.mil/changes web page once announced.

Pharmacy Out-of-Pocket Expenses for CY 2026

TRICARE Pharmacy copayments will increase January 1, 2026:

Pharmacy Copayments for Calendar Year 2026 *
Year | Retail network generic formulary 30-day supply | Retail network brand-name formulary 30-day supply | Retail network non-formulary 30-day supply | Mail order generic formulary 90-day supply | Mail order brand-name formulary 90-day supply | Mail order non-formulary 90-day supply
2026 | $16 | $48 | $85 ** | $14 | $44 | $85
* Active duty Service members (ADSM) enjoy a $0 copay for covered drugs at any pharmacy.
** For all beneficiaries except ADSM, select brand-name maintenance medications (taken for long-term conditions) may only be filled twice at retail and then must be filled through home delivery or military pharmacy.

Dated: October 23, 2025.
Aaron T. Siegel,
Alternate OSD Federal Register Liaison Officer, Department of Defense.

[FR Doc. 2025-19672 Filed 10-27-25; 8:45 am]

BILLING CODE 6001-FR-P